DEPARTMENT OF JUSTICE

Notice of Lodging of the Consent Decree Under the Resource Conservation and Recovery Act and the Clean Water Act

Notice is hereby given that on December 22, 2011, a proposed Consent Decree in United States v. County of Erie (“Erie”), Civil Action No. 1:11-cv-01083 (WMS), was lodged with the United States Court for the Western District of New York.

The proposed Consent Decree resolves Erie's Resource Conservation and Recovery Act (“RCRA”) violations stemming from its failure to meet cathodic protection requirements, release detection requirements, and other record-keeping requirements in to relation to its Underground Storage Tanks (“USTs”) at sixteen facilities throughout the county. The Consent Decree also resolves Erie's Clean Water Act (“CWA”) violations stemming from its failure to prepare and implement Spill Prevention Control and Countermeasure plans (“SPCC plans”) at eleven facilities throughout the county that utilize applicable above ground storage tanks. Under the terms of the Consent Decree, Erie will pay a $275,000 penalty, prepare and implement eleven SPCC plans, and undertake a full RCRA audit to certify to the United States that it is in complete compliance with all RCRA requirements at the thirty-six facilities it owns or operates that utilize USTs.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. County of Erie, D.J. Ref. 90-7-1-09728.

During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $8.75 (25 cents per page reproduction cost) payable to the U.S. Treasury or, if requesting by email or fax, forward a check in that amount to the Consent Decree Library at the address given above.

Ronald G. Gluck,
Assistant Section Chief, Environmental Enforcement Section, Environment and Natural Resource Division.

[FR Doc. 2011-33805 Filed 1-4-12; 8:45 am]

BILLING CODE 4410-15-P